FEDERAL RESERVE SYSTEM

Government in the Sunshine Meeting Notice

AGENCY: Board of Governors of the Federal Reserve System.

Federal Register Citation of Previous Announcement: 68, FR 56294, September 30, 2003.

Previously Announced Time and Date of the Meeting: 11:30 a.m., Monday, October 6, 2003.

Changes in the Meeting: Change in the time and date of the closed meeting to 11:30 a.m., Tuesday, October 7, 2003.

FOR FURTHER INFORMATION CONTACT: Michelle A. Smith, Director, Office of Board Members; (202) 452-2955.

SUPPLEMENTARY INFORMATION: You may call (202) 452-3206 beginning at approximately 5 p.m., two business days before the meeting for a recorded announcement of bank and bank holding company applications scheduled for the meeting; or you may contact the Board's Web site at http://www.federalreserve.gov for an electronic announcement that not only lists applications, but also indicates procedural and other information about the meeting.

Dated: September 30, 2003.
Jennifer J. Johnson,
Secretary of the Board.

[FR Doc. 03-25166 Filed 9-30-03; 2:31 pm]

BILLING CODE 6210-01-M